DEPARTMENT OF COMMERCE

Bureau of Industry and Security

[Docket No. 0808251149-81159-01]

Foreign Availability Assessment: Uncooled Thermal Imaging Cameras Incorporating Microbolometer Focal Plane Arrays

AGENCY: Bureau of Industry and Security, Department of Commerce.

ACTION: Notice of Initiation of a Foreign Availability Assessment and Request for Comments.

SUMMARY: This notice is to announce that the Bureau of Industry and Security (BIS) is initiating a foreign availability assessment pursuant to sections 5(f) and 5(h) of the Export Administration Act of 1979, as amended (EAA). The Office of Technology Evaluation (OTE) will oversee the assessment of the foreign availability in China of uncooled thermal imaging cameras incorporating microbolometer focal plane arrays. BIS is also seeking public comments on the foreign availability of these cameras in China.

DATES: Comments must be received by September 17, 2008.

ADDRESSES: You may submit comments by any of the following methods:

• E-mail: rhajen@bis.doc.gov. Include the phrase “Microbolometer FA Study” in the subject line;

• Fax: (202) 482-5361.

• Mail or Hand Delivery/Courier: Ryan Hajen, Office of Technology Evaluation, Bureau of Industry and Security, U.S. Department of Commerce, Room 1093, 14th Street and Pennsylvania Avenue, NW., Washington, DC 20230.

FOR FURTHER INFORMATION CONTACT: Kevin Kurland, Office of Technology Evaluation, Department of Commerce, Washington, DC 20230, Telephone: (202) 482-2385; e-mail: kkurland@bis.doc.gov.

SUPPLEMENTARY INFORMATION:

Background

Sections 5(f) and 5(h) of the Export Administration Act of 1979, as amended (EAA), authorizes the Secretary of Commerce to conduct foreign availability assessments to examine and reevaluate the effectiveness of U.S. dual-use export controls on certain items that are controlled for national security reasons under the Export Administration Regulations (EAR). The Bureau of Industry and Security (BIS) has been delegated the responsibility of conducting these assessments and compiling a final report for the Secretary's review and consideration when issuing a final foreign availability determination. Part 768 of the EAR sets forth the procedures related to foreign availability assessments. BIS is publishing this notice to announce the initiation of an assessment and to request public comments on certain aspects of the item under review.

Foreign Availability Assessment

On behalf of the Secretary, BIS has initiated an assessment in response to a certified foreign availability petition received from the Sensors and Instrumentation Technical Advisory Committee (SITAC). The SITAC petition asserts the foreign availability of uncooled thermal imaging cameras in China. These cameras incorporate microbolometer focal plane arrays operating in a spectral band between 8 and 14 microns, with a frame rate no higher than 60 Hz, and a pixel count of 110,592 or less. These items are currently controlled for national security reasons under Export Control Commodity Classification Number (ECCN) 6A003.b.4.b on the Commerce Control List (Supplement No. 1 to Part 774 of the EAR). The SITAC petition asserts that cameras of comparable quality to those subject to control under 6A003.b.4.b are available-in-fact from China in sufficient quantities to render the U.S. export control of the cameras ineffective.

BIS has reviewed the SITAC petition and determined that it has sufficient evidence to show that foreign availability of these cameras exists. Therefore, BIS is initiating a foreign availability assessment of uncooled thermal imaging cameras incorporating microbolometer focal plane arrays. Upon completion of the assessment, BIS will submit its findings to the Secretary of Commerce, who in turn will issue a final determination for the Department. The final determination will be published in the Federal Register.

Request for Comments

To assist in assessing the foreign availability of these cameras, BIS is seeking public comments and submissions that relate to the following information:

• Product names and model designations of cameras that are made in China and that are comparable to the U.S. cameras with a spectral band between 8 and 14 microns, a frame rate of no more than 60 Hz, and a pixel count of 110,592 or less (U.S. cameras);

• Names and locations of Chinese companies that produce and export indigenously-produced cameras comparable to U.S. cameras;

• Chinese production quantities, sales, and/or exports of cameras comparable to U.S. cameras;

• Data on imports of Chinese cameras comparable to U.S. cameras, and/or testing and analysis of such cameras;

• An estimate of the economic impact on U.S. companies of the export controls on the U.S. cameras.

Any tangible evidence to support the above information would also be useful to BIS in its conduct of this assessment. Examples of other useful evidence are found in Supplement No. 1 to Part 768 of the EAR.

Submission of Comments

All comments must be submitted to the address indicated in this notice. The Department of Commerce requires that all comments be submitted in written form.

BIS encourages interested persons who wish to comment to do so at the earliest possible time. The period for submission of comments will close on September 17, 2008. BIS will consider all comments received before the close of the comment period. Comments received after the close of the comment period will be considered if possible, but their consideration cannot be assured.

BIS will accept comments or information accompanied by a request that part or all of the material be treated confidentially because of its proprietary nature. The information for which confidential treatment is requested must be submitted to BIS separately from non-confidential information. Each page containing company confidential information must be marked “Confidential Information.” Please be careful to mark only that information that is legitimately company confidential, trade secret, proprietary, or financial information with the “confidential information” designation. If submitted information fails to meet the standards for confidential treatment, BIS will immediately return the information to the submitter.

Information submitted in response to this notice, and not deemed confidential, will be a matter of public record and will be available for public inspection and copying. The Office of Administration, Bureau of Industry and Security, U.S. Department of Commerce, displays public comments on the BIS Freedom of Information Act (FOIA) Web site at http://www.bis.doc.gov/foia. This office does not maintain a separate public inspection facility. If you have technical difficulties accessing this Web site, please call BIS's Office of Administration, at (202) 482-1093, for assistance.

Dated: August 26, 2008.
Christopher Wall,
Assistant Secretary for Export Administration.

[FR Doc. E8-20168 Filed 8-29-08; 8:45 am]

BILLING CODE 3510-JT-P